DEPARTMENT OF COMMERCE

National Oceanic and Atmospheric Administration

RIN 0648-XD743

International Affairs; U.S. Fishing Opportunities in the Northwest Atlantic Fisheries Organization Regulatory Area

AGENCY: National Marine Fisheries Service (NMFS), National Oceanic and Atmospheric Administration (NOAA), Commerce.

ACTION: Notification of U.S. fishing opportunities.

SUMMARY: NMFS announces fishing opportunities in the Northwest Atlantic Fisheries Organization (NAFO) Regulatory Area. This action is necessary to make fishing privileges available on an equitable basis.

DATES: Effective January 1, 2015, through December 31, 2015. Expressions of interest regarding fishing opportunities in NAFO will be accepted through February 17, 2015.

ADDRESSES: Expressions of interest regarding U.S. fishing opportunities in NAFO should be made in writing to Douglas W. Christel in the NMFS Greater Atlantic Regional Fisheries Office at 55 Great Republic Drive, Gloucester, MA 01930 (phone: 978-281-9141, email: Douglas.Christel@noaa.gov).

Information relating to chartering vessels of another NAFO Contracting Party, or transferring NAFO fishing opportunities to or from another NAFO Contracting Party is available from Patrick E. Moran in the NMFS Office of International Affairs at 1315 East-West Highway, Silver Spring, MD 20910 (phone: 301-427-8370, fax: 301-713-2313, email: Pat.Moran@noaa.gov). Information relating to NAFO fishing opportunities, NAFO Conservation and Enforcement Measures, and the High Seas Fishing Compliance Act (HSFCA) Permit is available from Douglas Christel, in the NMFS Greater Atlantic Regional Fisheries Office at 55 Great Republic Drive, Gloucester, MA 01930 (phone: 978-281-9141, fax: 978-281-9135, email: douglas.christel@noaa.gov) and from NAFO on the World Wide Web at http://www.nafo.int.

FOR FURTHER INFORMATION CONTACT: Douglas W. Christel, 978-281-9141.

SUPPLEMENTARY INFORMATION:

What fishing opportunities are available?

The principal species managed by NAFO are cod, flounder, redfish, American plaice, Greenland halibut, hake, capelin, shrimp, skates and Illex squid. NAFO maintains conservation measures for fishery resources in its Regulatory Area, including, for those principal species, total allowable catches (TACs) that are allocated among NAFO Contracting Parties. At the 2014 NAFO Annual Meeting, the United States received national quota allocations for two NAFO stocks to be fished during 2015. The species, location, and allocation (in metric tons (mt)) of these 2015 U.S. fishing opportunities, as found in Annexes I.A, I.B, and I.C of the 2015 NAFO Conservation and Enforcement Measures (CEM), are as follows:

1. Redfish | NAFO Division 3M | 69 mt.
2. Squid (Illex) | NAFO Subareas 3 & 4 | 453 mt.

Additionally, the United States may be transferred up to 1,000 mt of NAFO Division 3LNO yellowtail flounder from Canada's quota allocation if requested before January 1 of each year, or any succeeding year through 2018, based upon a bilateral arrangement with Canada. The United States has already requested this 1,000 mt of Division 3LNO yellowtail flounder from Canada for 2015. The arrangement for the transfer of Canadian yellowtail flounder quota would enable U.S. vessels to harvest American plaice as bycatch in the yellowtail flounder fishery in an amount equal to 15 percent of the total catch on board of regulated species listed in Annex I.A of the 2015 NAFO CEM . Additional quota for these and other stocks managed within the NAFO Regulatory Area may be available to U.S. vessels through industry-initiated chartering arrangements or transfers of quota from other NAFO Contracting Parties.

U.S. fishermen may also access stocks in which the United States has not received a national quota (also known as the “Others” allocation), including: Division 3M cod (55 mt); Division 3LN redfish (63 mt); Division 3O redfish (100 mt); Division 3NO witch flounder (10 mt); Division 3NO white hake (59 mt); and Division 3LNO skates (258 mt). Note that the United States shares these allocations with other NAFO Contracting Parties, and access to such stocks is on a first-come-first-served basis. Fishing is halted by NAFO when the “Others” allocation for a particular stock has been fully harvested.

U.S. fishermen interested in harvesting species not listed in Annexes I.A or I.B of the 2015 NAFO CEM, but occurring within the NAFO Regulatory Area, should contact the NMFS Greater Atlantic Regional Fisheries Office (see ADDRESSES) for information. Authorization to fish for such species will include appropriate conditions or restrictions, such as, but not limited to, minimum size requirements and catch limits, as may be appropriate to ensure the optimum utilization, long-term sustainability, and rational management and conservation of fishery resources in the NAFO Regulatory Area, consistent with the Convention on Future Multilateral Cooperation in the Northwest Atlantic Fisheries as well as the Amendment to the Convention on Future Multilateral Cooperation in the Northwest Atlantic Fisheries, which has been adopted by all NAFO Contracting Parties by consensus.

Who can apply for these fishing opportunities?

Expressions of interest to fish for any or all of the 2015 U.S. fishing opportunities in NAFO described above will be considered from all U.S. fishing interests (e.g., vessel owners, processors, agents, others). Applicants are urged to carefully review and thoroughly address the application requirements and selection criteria as detailed below. Expressions of interest should be directed in writing to Douglas W. Christel (see ADDRESSES).

What information is required in an application letter?

Expressions of interest should include a detailed description of anticipated fishing operations in 2015. This includes, but is not limited to, the following elements: Intended target species; proposed dates of fishing operations; vessels to be used to harvest fish, including the name, registration, and home port of the intended harvesting vessel, as appropriate; the number of fishing personnel involved in vessel operations; intended landing port; for landing ports outside of the United States, whether or not the product will be shipped to the United States for processing; processing facilities to be employed; target market for harvested fish; and evidence demonstrating the ability of the applicant to successfully prosecute fishing operations in the NAFO Regulatory Area. Note that U.S. applicant vessels must be in possession of, or eligible for, a valid HSFCA permit, which is available from the NMFS Greater Atlantic Regional Fisheries Office. Information regarding other requirements for fishing in the NAFO Regulatory Area is detailed below and is also available from the NMFS Greater Atlantic Regional Fisheries Office (see ADDRESSES). U.S. applicants wishing to harvest U.S. allocations using a vessel from another NAFO Contracting Party, or hoping to transfer U.S. allocations to another NAFO Contracting Party, should see below for details on U.S. and NAFO requirements for such activities. If you have further questions regarding what information is required in an expression of interest, please contact Douglas W. Christel (see ADDRESSES).

What criteria will be used in identifying successful applicants?

Applicants demonstrating the greatest benefits to the United States through their intended operations will be most successful. Such benefits might include (but are not limited to): The use of U.S. vessels; detailed, positive impacts on U.S. employment; use of U.S. processing facilities; transport, marketing and sales of product within the United States; other benefits to U.S. businesses; and documentation of the physical characteristics and economics of the fishery for future use by the U.S. fishing industry. A documented history of successful fishing operations in NAFO or other similar fisheries will also be considered. After reviewing all requests for allocations submitted, NMFS may decide not to grant any allocations if it is determined that no requests adequately meet the criteria described in this notice. To ensure equitable access by U.S. fishing interests, NMFS may provide additional guidance or procedures, or may promulgate regulations designed to allocate fishing interests to one or more U.S. applicants from among qualified applicants.

All applicants will be notified of the allocation decision as soon as possible. Once allocations have been awarded, NMFS will immediately take appropriate steps to notify NAFO and other appropriate actions to facilitate operations by U.S. fishing interests.

What if I want to charter a vessel to fish available U.S. allocations?

Under the bilateral arrangement with Canada, the United States may enter into a chartering (or other) arrangement with a Canadian vessel to harvest the transferred yellowtail flounder. For other NAFO-regulated species listed in Annexes I.A or I.B, the United States may enter into a chartering arrangement with a vessel from any other NAFO Contracting Party. Prior notification to the NAFO Executive Secretary is necessary in either case. Expressions of interest intending to make use of another NAFO Contracting Party vessel under chartering arrangements should provide the following information: The name and registration number of the intended vessel; a copy of the charter agreement; a detailed fishing plan; a written letter of consent from the applicable NAFO Contracting Party; the date from which the vessel is authorized to commence fishing; and the duration of the charter (not to exceed six months). Note that expressions of interest using another NAFO Contracting Party vessel under charter should be accompanied by a detailed description of anticipated benefits to the United States, as described above.

Any vessel wishing to enter into a chartering arrangement with the United States must be in full current compliance with the requirements outlined in the NAFO Convention and Conservation and Enforcement Measures. These requirements include, but are not limited to, submission of the following reports to the NAFO Executive Secretary: Notification that the vessel is authorized by its flag state to fish within the NAFO Regulatory Area during 2015; provisional monthly catch reports for all vessels of that NAFO Contracting Party operating in the NAFO Regulatory Area; daily catch reports for each day fished by the subject vessel within the Regulatory Area; observer reports within 30 days following the completion of a fishing trip; and an annual statement of actions taken by its flag state to comply with the NAFO Convention. The United States may also consider the vessel's previous compliance with NAFO bycatch, reporting and other provisions, as outlined in the NAFO Conservation and Enforcement Measures, before entering into a chartering arrangement. More details on NAFO requirements for chartering operations are available from Patrick E. Moran (see ADDRESSES).

What if I want to arrange for a transfer of U.S. quota allocations to another NAFO party?

Under NAFO rules in effect for 2015, the United States may transfer fishing opportunities with the consent of the receiving NAFO Contracting Party and with prior notification to the NAFO Executive Secretary. An applicant may request to arrange for any of the above U.S. opportunities to be transferred to another NAFO party, although such applications will likely to be given lesser priority than those that involve more direct harvesting or processing by U.S. entities. Applications to arrange for a transfer of U.S. fishing opportunities should contain a letter of consent from the receiving NAFO Contracting Party, and should also be accompanied by a detailed description of anticipated benefits to the United States. As in the case of chartering operations, the United States may also consider a NAFO Contracting Party's previous compliance with NAFO bycatch, reporting and other provisions, as outlined in the NAFO Conservation and Enforcement Measures, before entering agreeing to a transfer. More details on NAFO requirements for transferring NAFO allocations are available from Patrick E. Moran (see ADDRESSES).

What if I want to arrange to receive a transfer of NAFO quota allocations from another NAFO party?

Under NAFO rules in effect for 2015, the United States may receive transfers of additional fishing opportunities from other NAFO Contracting Parties. The United States is required to provide a letter of consent to this transfer and prior notification to the NAFO Executive Secretary. In the event that an applicant is able to arrange for the transfer of additional fishing opportunities from another NAFO Contracting Party, the United States may agree to facilitate such a transfer insofar as fulfilling the NAFO requirements for such transfers after soliciting additional public input on such transfers as appropriate. As in the case of chartering operations, the United States may also consider a NAFO Contracting Party's previous compliance with NAFO bycatch, reporting and other provisions, as outlined in the NAFO Conservation and Enforcement Measures, before agreeing to accept a transfer. Any fishing quota or other harvesting opportunities received via this type of transfer are subject to all U.S. and NAFO rules as detailed below. For more details on NAFO requirements for transferring NAFO allocations, contact Patrick E. Moran (see ADDRESSES).

What rules must I follow while fishing?

U.S. applicant vessels must be in possession of, or obtain, a valid HSFCA permit, which is available from the NMFS Greater Atlantic Regional Fisheries Office. Note that vessels issued valid HSFCA permits under 50 CFR part 300 are exempt from the Northeast multispecies and monkfish permit, mesh size, effort-control, and possession limit restrictions, specified in §§ 648.4, 648.80, 648.82, 648.86, 648.87, 648.91, 648.92, and 648.94, respectively, while transiting the U.S. exclusive economic zone (EEZ) with multispecies and/or monkfish on board the vessel, or landing multispecies and/or monkfish in U.S. ports that were caught while fishing in the NAFO Regulatory Area, provided:

1. The vessel operator has a letter of authorization issued by the Regional Administrator on board the vessel;

2. For the duration of the trip, the vessel fishes, except for transiting purposes, exclusively in the NAFO Regulatory Area and does not harvest fish in, or possess fish harvested in, or from, the U.S. EEZ;

3. When transiting the U.S. EEZ, all gear is properly stowed and not available for immediate use as defined under § 648.2; and

4. The vessel operator complies with the provisions, conditions, and restrictions specified on the HSFCA permit and all NAFO Conservation and Enforcement Measures while fishing in the NAFO Regulatory Area.

Relevant NAFO Conservation and Enforcement Measures include, but are not limited to, maintenance of a fishing logbook with NAFO-designated entries; adherence to NAFO hail system requirements; presence of an on-board observer; deployment of a functioning, autonomous vessel monitoring system authorized by issuance of the HSFCA permit; and adherence to all relevant minimum size, gear, bycatch, and other requirements. Further details regarding U.S. and NAFO requirements are available from the NMFS Greater Atlantic Regional Fisheries Office, and can also be found in the 2015 NAFO Conservation and Enforcement Measures on the Internet (see ADDRESSES).

Dated: January 28, 2015.
Paul Doremus,
Acting Director, Office of International Affairs and Seafood Inspection, National Marine Fisheries Service.

[FR Doc. 2015-01967 Filed 1-30-15; 8:45 am]

BILLING CODE 3510-22-P